DEPARTMENT OF STATE

[Public Notice: 11902]

Determination Under Section 614(a)(1) of the Foreign Assistance Act of 1961 for Assistance in Response to the Global COVID-19 Pandemic

Pursuant to the authority vested in me by section 614(a)(1) of the Foreign Assistance Act of 1961 (FAA), the President's Memorandum of Delegation, dated August 26, 2022, and Department of State Delegation of Authority 513, I hereby determine that it is important to the security interests of the United States to use up to $215 million from the Economic Support Fund under title IX of the Department of State, Foreign Operations, and Related Programs Appropriations Act, 2021 (Div. K, Pub. L. 116-260) to furnish assistance in response to the global COVID-19 pandemic, without regard to any provision of law within purview of section 614(a)(1) of the FAA.

This determination shall be reported to Congress and published in the Federal Register.

Dated: September 1, 2022.
Brian P. McKeon,
Deputy Secretary of State for Management and Resources, Department of State.

[FR Doc. 2022-24638 Filed 11-10-22; 8:45 am]

BILLING CODE 4710-10-P